DEPARTMENT OF THE INTERIOR

Fish and Wildlife Service

50 CFR Part 17

RIN 1018-AU74

Endangered and Threatened Wildlife and Plants; Designation of Critical Habitat for the Hine's Emerald Dragonfly

AGENCY: Fish and Wildlife Service, Interior.

ACTION: Proposed rule; reopening of comment period.

SUMMARY: We, the U.S. Fish and Wildlife Service (Service), announce the reopening of the public comment period for the proposed designation of critical habitat for the endangered Hine's emerald dragonfly (Somatochlora hineana) and the draft economic analysis, under the Endangered Species Act of 1973, as amended (Act). We are reopening the public comment period to allow additional time for all interested parties to comment on the proposed rule, our revision to the proposed rule, and the associated draft economic analysis. Comments previously submitted need not be resubmitted, as we will incorporate them into the public record and fully consider them as we prepare the final rule.

DATES: We will accept public comments until July 2, 2007.

ADDRESSES: If you wish to comment, you may submit your comments and information concerning this proposal, identified by “Attn: Hine's Emerald Dragonfly Critical Habitat,” by any one of several methods:

(1) Mail or hand-deliver to: John Rogner, Field Supervisor, U.S. Fish and Wildlife Service, Chicago Ecological Services Field Office, 1250 S. Grove, Suite 103, Barrington, IL 60010.

(2) Send by electronic mail (e-mail) to hedch@fws.gov. Please see the Public Comments Solicited section below for file format and other information about electronic filing.

(3) Fax your comments to: (847) 381-2285.

(4) Submit comments via the Federal eRulemaking portal: http://www.regulations.gov. Follow the instructions for submitting comments.

FOR FURTHER INFORMATION CONTACT: John Rogner, Field Supervisor, Chicago Ecological Services Field Office, 1250 S. Grove, Suite 103, Barrington, IL 60010 (telephone (847) 381-2253, extension 28; facsimile (847) 381-2285).

SUPPLEMENTARY INFORMATION:

Public Comments Solicited

We intend that any final action resulting from the proposal will be as accurate and as effective as possible. Therefore, we hereby solicit comments or suggestions from the public, other concerned governmental agencies, the scientific community, industry, or any other interested party concerning the proposed rule. We particularly seek comments concerning:

(1) The reasons any habitat should or should not be determined to be critical habitat as provided by section 4 of the Act (16 U.S.C. 1531 et seq.), including whether the benefit of designation will outweigh any adverse impacts to the species due to designation;

(2) Specific information on the amount and distribution of Hine's emerald dragonfly habitat, particularly what areas should be included in the designations that were occupied at the time of listing and that contain features that are essential for the conservation of the species and why; and what areas that were not occupied at the time of listing are essential to the conservation of the species and why;

(3) Information that would add further clarity or specificity to the physical and biological features determined to be essential for the conservation of the Hine's emerald dragonfly (i.e., primary constituent elements), particularly whether the primary constituent elements as described fulfill the needs for the various life stages of the Hine's emerald dragonfly (e.g., whether old fields adjacent to and in near proximity to larval areas are essential features);

(4) Whether lands not currently occupied by the species should be included in the designation, and if so, the basis for such an inclusion;

(5) Whether the methodology used to map critical habitat units captures all of the biological and physical features essential to the conservation of the Hine's emerald dragonfly;

(6) Land use designations and current or planned activities in the subject areas and their possible impacts on proposed critical habitat;

(7) Whether the benefit of exclusion in any particular area outweigh the benefits of inclusion under Section 4(b)(2) of the Act;

(8) Any foreseeable economic, national security, or other potential impacts resulting from the proposed designation and, in particular, any impacts on small entities;

(9) We are considering excluding areas under the jurisdiction of the Hiawatha National Forest in Michigan, the Mark Twain National Forest in Missouri, and the Missouri Department of Conservation and units under private ownership in Missouri from the final designation of critical habitat under section 4(b)(2) of the Act on the basis of conservation programs and partnerships. We will also review other relevant information for units being proposed in this rule as we receive it to determine whether other units may be appropriate for exclusion from the final designation under section 4(b)(2) of the Act. We specifically solicit comment on the inclusion or exclusion of such areas and:

(a) Whether these areas have features that are essential to the conservation of the species or are otherwise essential to the conservation of the species;

(b) Whether these, or other areas proposed, but not specifically addressed in this proposal, warrant exclusion;

(c) Relevant factors that should be considered by us when evaluating the basis for not designating these areas as critical habitat under section 4(b)(2) of the Act;

(d) Whether management plans in place adequately provide conservation measures and protect the Hine's emerald dragonfly, its habitat, and features essential to its conservation;

(e) Whether designation would assist in the regulation of any threats not addressed by existing management plans; and

(f) Whether designating these lands may result in an increased degree of threat to the species on these lands;

(10) Whether the draft economic analysis identifies all State and local costs attributable to the proposed critical habitat designation, and information on any costs that have been inadvertently overlooked;

(11) Whether the draft economic analysis makes appropriate assumptions regarding current practices and likely regulatory changes imposed as a result of the designation of critical habitat;

(12) Whether the draft economic analysis correctly assesses the effect on regional costs associated with any land use controls that may derive from the designation of critical habitat;

(13) Whether the draft economic analysis appropriately identifies all costs and benefits that could result from the designation; and

(14) Whether our approach to critical habitat designation could be improved or modified in any way to provide for greater public participation and understanding, or to assist us in accommodating public concern and comments.

If you wish to comment, you may submit your comments and materials concerning this proposal and the draft economic analysis by any one of several methods (see ADDRESSES section). Please note that comments merely stating support or opposition to the actions under consideration without providing supporting information, although noted, will not be considered in making a determination, as section 4(b)(1)(A) of the Act directs that determinations to be made “solely on the basis of the best scientific and commercial data available.” Please submit comments electronically to hedch@fws.gov in ASCII or Microsoft Word file format. Please also include “Attn: Hine's Emerald Dragonfly Critical Habitat” in your e-mail subject header and your name and return address in the body of your message. If you do not receive a confirmation from the system that we have received your e-mail, contact us directly by calling the Chicago, Illinois, Ecological Services Field Office at telephone number (847) 381-2253, extension 28. Please note that the e-mail address hedch@fws.gov will be closed out at the termination of the public comment period.

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment, but you should be aware that the Service may be required to disclose your name and address pursuant to the Freedom of Information Act. We will make all submissions from organizations or businesses, and from individuals identifying themselves as representatives or officials of organizations or businesses, available for public inspection in their entirety. Comments and materials received will be available for public inspection, by appointment, during normal business hours at the address indicated in the ADDRESSES section.

Copies of the proposed rule for critical habitat designation, the revised proposed rule, and the draft economic analysis are available on the Internet at http://www.fws.gov/midwest/Endangered/ or from the Chicago Illinois Ecological Services Field Office (see ADDRESSES).

Our final designation of critical habitat will take into consideration all comments and any additional information we received during the comment periods. Previous comments and information submitted during the initial comment period on the July 26, 2006, proposed rule (71 FR 42442) need not be resubmitted. The subsequent comment period on the March 20, 2007, revised proposed rule and the draft economic analysis (72 FR 13061) closed on April 3, 2007. Previous comments and information submitted during that comment period need not be resubmitted. Furthermore, comments received on the proposal, revised proposal, or economic analysis after April 3, 2007, but before this reopening will be incorporated into the public record as a part of this reopening and do not need to be resubmitted.

On the basis of information received during the public comment periods, we may, during the development of our final critical habitat determination, find that areas proposed are not essential, are appropriate for exclusion under section 4(b)(2) of the Act, or are not appropriate for exclusion. An area may be excluded from critical habitat if it is determined that the benefits of such exclusion outweigh the benefits of including a particular area as critical habitat, unless the failure to designate such area as critical habitat will result in the extinction of the species. We may exclude an area from designated critical habitat based on economic impacts, national security, or any other relevant impact.

Background

On July 26, 2006, we published a proposed rule to designate critical habitat for the Hine's emerald dragonfly (71 FR 42442). On March 20, 2007, we published revisions to that proposal and announced the availability of the draft economic analysis (72 FR 13061). In total, approximately 27,836 acres (ac) (11,264 hectares (ha)) fall within the boundaries of the proposed critical habitat designation in 50 units located in Cook, DuPage, and Will Counties in Illinois; Alpena, Mackinac, and Presque Isle Counties in Michigan; Dent, Iron, Morgan, Phelps, Reynolds, Ripley, Shannon, Washington, and Wayne Counties in Missouri; and Door and Ozaukee Counties in Wisconsin. We are considering excluding, under section 4(b)(2) of the Act, all 26 units in Missouri and 2 units in Michigan from the final critical habitat designation. In the proposal, we addressed a number of general issues that are relevant to the exclusions we are considering, including conservation partnerships on non-Federal lands, conservation agreements, and National Forest plans.

We will submit for publication in the Federal Register a final critical habitat designation for the Hine's emerald dragonfly on or before August 23, 2007.

Author

The primary author of this notice is Kristopher Lah of the Chicago, Illinois, Ecological Services Field Office (see ADDRESSES).

Dated: May 15, 2007.
Todd Willens,
Acting Assistant Secretary for Fish and Wildlife and Parks.

[FR Doc. 07-2500 Filed 5-16-07; 10:43 am]

BILLING CODE 4310-55-P